DEPARTMENT OF THE INTERIOR

Bureau of Land Management

[LLMT-06000-01-L10200000-PG0000]

Notice of Public Meeting; Central Montana Resource Advisory Council

AGENCY: Bureau of Land Management, Interior.

ACTION: Notice of public meeting.

SUMMARY: In accordance with the Federal Land Policy and Management Act and the Federal Advisory Committee Act of 1972, the U.S. Department of the Interior, Bureau of Land Management (BLM) Central Montana Resource Advisory Council (RAC) will meet as indicated below.

DATES: The meeting will be held May 3 and 4, 2011. The May 3 meeting will begin at 10 a.m. with a 30-minute public comment period and will adjourn at 5:30 p.m. The May 4 meeting will begin at 8 a.m. with a 30-minute public comment period and will adjourn at 3 p.m.

ADDRESSES: The meetings will be in the Dick Irvin Incorporated Building, at 575 Wilson, in Shelby, Montana.

SUPPLEMENTARY INFORMATION: This 15-member council advises the Secretary of the Interior on a variety of management issues associated with public land management in Montana. During these meetings the council will participate in/discuss/act upon these topics/activities: Election of council officers for 2011; a RAC roundtable; BLM partnerships; BLM law enforcement responsibilities; a fee amenity presentation from a RAC subgroup; a review of the 2011 RAC work plan; an OHV presentation from a RAC subgroup; touring a nearby wind farm; district managers' updates; a report about BLM's wild land policy; early season sage grouse counts; the National Riparian Service Team assessment along the Upper Missouri River; a video of the 2010 fire season; and administrative details.

All RAC meetings are open to the public. The public may present written comments to the RAC. Each formal RAC meeting will also have time allocated for hearing public comments. Depending on the number of persons wishing to comment and time available, the time for individual oral comments may be limited.

FOR FURTHER INFORMATION CONTACT: Gary L. “Stan” Benes, Lewistown District Manager, Lewistown Field Office, 920 NE Main, Lewistown, Montana 59457, (406) 538-1900. Persons who use a telecommunications device for the deaf (TDD) may call the Federal Information Relay Service (FIRS) at 1-800-677-8339 to contact the above individual during normal business hours. The FIRS is available 24 hours a day, 7 days a week to leave a message or question with the above individual. You will receive a reply during normal business hours.

Diane M. Friez,
Acting Associate State Director, Montana/Dakotas Bureau of Land Management.

[FR Doc. 2011-9237 Filed 4-15-11; 8:45 am]

BILLING CODE 4310-DN-P